SECURITIES AND EXCHANGE COMMISSION

[OMB Control No. 3235-0107]

Agency Information Collection Activities; Submission for OMB Review; Comment Request; Extension: Form T-4—Application For Exemption

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Form T-4 (17 CFR 269.4) is a form used by an issuer to apply for an exemption under Section 304(c) (15 U.S.C. 77ddd (c)) of the Trust Indenture Act of 1939 (77 U.S.C. 77aaa et seq.). The information required by Form T-4 is mandatory, and Form T-4 is publicly available on the Commission's Electronic Data Gathering, Analysis, and Retrieval (“EDGAR”) system. We estimate that Form T-4 takes approximately 5 hours per response to prepare and is filed by approximately 3 respondents annually. We estimate that 20% of the 5 burden hours (1 hour per response) is prepared by the filer for a total annual reporting burden of 3 hours (1 hour per response × 3 responses annually). We estimate that 80% of the 5 burden hours (4 hours per response) is carried by outside professionals retained by the filer to assist in the preparation of the form, at an estimated cost of $600 per hour, for a total annual cost burden of $7,200 (4 hours per response × $600 per hour × 3 responses annually).

An agency may not conduct or sponsor, and a person is not required to respond to, a collection of information unless it displays a currently valid OMB Control Number.

The public may view and comment on this information collection request at: https://www.reginfo.gov/public/do/PRAViewICR?ref_nbr=202503-3235-006 or send an email comment to MBX.OMB.OIRA.SEC_desk_officer@omb.eop.gov within 30 days of the day after publication of this notice by September 8, 2025.

Dated: August 5, 2025.
Sherry Haywood,
Assistant Secretary.

[FR Doc. 2025-15058 Filed 8-7-25; 8:45 am]

BILLING CODE 8011-01-P